NATIONAL CREDIT UNION ADMINISTRATION

Sunshine Act Meeting; Notice of Meeting

TIME AND DATE: 2 p.m., Thursday, January 13, 2005.

PLACE: Board Room, 7th floor, room 7047, 1775 Duke Street, Alexandria, VA 22314-3428.

STATUS: Open.

MATTERS TO BE CONSIDERED: 1. Final Rule: Section 701.21(c)(7)(ii)(C) of NCUA's Rules and Regulations, Interest Rate Ceiling.

2. Final Rule: Part 708a of NCUA's Rules and Regulations, Conversion of Insured Credit Unions to Mutual Savings Banks.

3. Final Rule: Part 708b of NCUA's Rules and Regulations, Mergers of Federally Insured Credit Unions; Voluntary Termination or Conversion of Insured Status.

RECESS: 3:15 p.m.

TIME AND DATE: 3:30 p.m., Thursday, January 13, 2005.

PLACE: Board Room, 7th floor, room 7047, 1775 Duke Street, Alexandria, VA 22314-3428.

STATUS: Closed.

MATTERS TO BE CONSIDERED: 1. Appeal under section 701.14, and part 747, subpart J of NCUA's Rules and Regulations. Closed pursuant to exemptions (6) and (8).

FOR FURTHER INFORMATION CONTACT: Mary Rupp, Secretary of the Board, Telephone: (703) 518-6304.

Mary Rupp,
Secretary of the Board.

[FR Doc. 05-561 Filed 1-6-05; 3:45 pm]

BILLING CODE 7535-01-M